DEPARTMENT OF HOMELAND SECURITY

Coast Guard

33 CFR Part 117

[Docket No. USCG-2017-0225]

Drawbridge Operation Regulation; Curtis Creek, Baltimore, MD

AGENCY: Coast Guard, DHS.

ACTION: Notice of temporary deviation from drawbridge regulation; modification.

SUMMARY: The Coast Guard has modified a temporary deviation from the operating schedule that governs the I695 Bridge, at mile 1.0, across Curtis Creek, Baltimore, MD. This modified deviation is necessary to remove, repair and replace the inner and outer loop locking bar and couplings. This deviation allows the bridge to remain in the closed-to-navigation position.

DATES: This modified deviation is effective without actual notice from April 18, 2017 through 7 p.m. on May 5, 2017. For the purposes of enforcement, actual notice will be used from 6:00 a.m. on April 10, 2017, until April 18, 2017.

ADDRESSES: The docket for this deviation, [USCG-2017-0225] is available at http://www.regulations.gov. Type the docket number in the “SEARCH” box and click “SEARCH”. Click on Open Docket Folder on the line associated with this deviation.

FOR FURTHER INFORMATION CONTACT: If you have questions on this temporary deviation, call or email Mr. Martin Bridges, Bridge Administration Branch Fifth District, Coast Guard, telephone 757-398-6422, email Martin.A.Bridges@uscg.mil.

SUPPLEMENTARY INFORMATION: On March 27, 2017, the Coast Guard published a temporary deviation entitled “Drawbridge Operation Regulation: Curtis Creek, Baltimore, MD” in the Federal Register (82 FR 15137). Under that temporary deviation, the bridge will remain in the closed-to-navigation position from 6 a.m. on April 10, 2017, through 7 p.m. on April 15, 2017. The Maryland Transportation Authority, who owns and operates the I695 Bridge across Curtis Creek, mile 1.0, at Baltimore, MD, has requested a modified temporary deviation from the current operating regulation set out in 33 CFR 117.557, to remove, repair, and replace the inner and outer loop locking bar and couplings. This modified temporary deviation serves to replace the previous temporary deviation in the Federal Register (82 FR 15137), immediately upon its publication into the Federal Register.

Under this modified temporary deviation, the bridge will remain in the closed-to-navigation position from 6 a.m. to 7 p.m., from April 10, 2017, through April 17, 2017, and from May 1, 2017, through May 5, 2017. The bridge will open on signal if at least 24 hours notice is given from 7 p.m. to 6 a.m., from April 10, 2017, through April 17, 2017, and from May 1, 2017, through May 5, 2017. At all other times the bridge will operate per 33 CFR 117.557. The drawbridge has two spans, each with double-leaf bascule draws, and both spans have a vertical clearance in the closed-to-navigation position of 58 feet above mean high water.

Curtis Creek is used by military vessels, recreational vessels, tug and barge traffic, fishing vessels, and small commercial vessels. The Coast Guard has carefully considered the nature and volume of vessel traffic on the waterway in publishing this temporary deviation.

Vessels able to pass through the bridge in the closed position may do so at any time. The bridge spans will not be able to open in case of an emergency and there is no immediate alternate route for vessels to pass. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 12, 2017.
Hal R. Pitts,
Bridge Program Manager, Fifth Coast Guard District.

[FR Doc. 2017-07765 Filed 4-17-17; 8:45 am]

BILLING CODE 9110-04-P